DEPARTMENT OF COMMERCE

National Oceanic and Atmospheric Administration

RIN 0648-XC524

North Pacific Fishery Management Council; Public Meeting

AGENCY: National Marine Fisheries Service (NMFS), National Oceanic and Atmospheric Administration (NOAA), Commerce.

ACTION: Notice of public meetings.

SUMMARY: The North Pacific Fishery Management Council (Council) Ecosystem Committee will meet by teleconference in Anchorage, AK.

DATES: The teleconference will be held on March 19, 2013 from 1 p.m. to 4 p.m. (Alaska Standard Time).

ADDRESSES: Listening sites will be held at the Council Office, 605 W 4th Avenue, Room 205, Anchorage, AK.

Council address: North Pacific Fishery Management Council, 605 W. 4th Ave., Suite 306, Anchorage, AK 99501-2252.

FOR FURTHER INFORMATION CONTACT: Diana Evans, Council staff; telephone: (907) 271-2809.

SUPPLEMENTARY INFORMATION: The agenda will be as follows: (1) Discussion on the Essential Fish Habitat (EFH) consultation regarding gold dredging in crab habitat in Nome; (2) Report on NOAA progress with implementing Ecosystem Based Management (EBM) science throughout the regions; and (3) Begin work on developing a roadmap for the Council for EBM.

Special Accommodations

These meetings are physically accessible to people with disabilities. Requests for sign language interpretation or other auxiliary aids should be directed to Gail Bendixen at (907) 271-2809 at least 7 working days prior to the meeting date.

Dated: February 26, 2013.
Tracey L. Thompson,
Acting Deputy Director, Office of Sustainable Fisheries, National Marine Fisheries Service.

[FR Doc. 2013-04778 Filed 2-28-13; 8:45 am]

BILLING CODE 3510-22-P